ENVIRONMENTAL PROTECTION AGENCY

[ER-FRL-9050-5]

Environmental Impact Statements; Notice of Availability

Responsible Agency: Office of Federal Activities, General Information 202-564-5632 or https://www.epa.gov/nepa.

Weekly receipt of Environmental Impact Statements (EIS)

Filed April 13, 2020, 10 a.m. EST Through April 20, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200089, Final, BLM, OR, Tucker Hill Perlite Mine Expansion Project Plan of Operations Amendment No. 7, Review Period Ends: 05/26/2020, Contact: Paul Whitman 541-947-6110.

EIS No. 20200090, Final, USFS, OR, Calf-Copeland Restoration Project, Review Period Ends: 06/08/2020, Contact: Jennifer Christie 541-946-1465.

EIS No. 20200091, Draft, CHSRA, CA, San Jose to Merced Project Section Draft Environmental Impact Report/Environmental Impact Statement, Comment Period Ends: 06/08/2020, Contact: Dan McKell 916-330-5668.

EIS No. 20200092, Draft, NIH, MD, NIH Bethesda Surgery, Radiology, And Lab Medicine Building, Comment Period Ends: 06/08/2020, Contact: Valerie Nottingham 301-496-7775.

EIS No. 20200093, Draft, BR, NM, New Mexico Unit of the Central Arizona Project, Comment Period Ends: 06/08/2020, Contact: Sean Heath 623-773-6250.

EIS No. 20200094, Draft, USN, CA, Point Mugu Sea Range, Comment Period Ends: 06/08/2020, Contact: Cory Scott 805-989-3885.

EIS No. 20200095, Final Supplement, DOE, KY, Disposition of Depleted Uranium Oxide Conversion Product Generated from DOE's Inventory of Depleted Uranium Hexafluoride, Review Period Ends: 05/26/2020, Contact: Julia Donkin 202-287-5598.

EIS No. 20200096, Final, USACE, CA, Westminster, East Garden Grove, CA Flood Risk Management Study, Review Period Ends: 05/26/2020, Contact: Michael Padilla 312-846-5427.

EIS No. 20200097, Final, FTA, NJ, NJ Transitgrid Traction Power System, Contact: Donald Burns 212-668-2203.

Under 23 U.S.C. 139(n)(2), FTA has issued a single document that consists of a final environmental impact statement and a record of decision. Therefore, the 30-day wait/review period under NEPA does not apply to this action.

Amended Notice:

EIS No. 20200068, Draft, NMFS, MA, Northeast Multispecies Fishery Management Plan Draft Amendment 23, Comment Period Ends: 06/30/2020, Contact: Mark Grant 978-281-9145.

Revision to FR Notice Published 3/27/2020; Extending the Comment Period from 5/22/2020 to 6/30/2020.

Dated: April 20, 2020.
Cindy S. Barger,
Director, NEPA Compliance Division, Office of Federal Activities.

[FR Doc. 2020-08710 Filed 4-23-20; 8:45 am]

BILLING CODE 6560-50-P